DEPARTMENT OF LABOR

Employment and Training Administration

[TA-W-40,309]

Firestone Tube Co., a Division of Bridgestone/Firestone North American Tire, LLC, Subsidiary of Bridgestone Corp., Russellville, AR; Notice of Negative Determination Regarding Application for Reconsideration

By application dated May 14, 2002, the United Steelworkers of America, Local 884 requested administrative reconsideration of the Department's negative determination regarding eligibility to apply for Trade Adjustment Assistance (TAA), applicable to workers and former workers of the subject firm. The denial notice was signed on April 18, 2002, and published in the Federal Register on May 2, 2002 (67 FR 22114).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Firestone Tube Company, a division of Bridgestone/Firestone North American Tire, LLC, a subsidiary of Bridgestone Corp., Russellville, Arkansas was denied because criterion (2) was not met. Sales and production at the subject firm increased during the relevant period.

The petitioner alleges that plant production declined during the relevant period and attempts to illustrate these declines in production by supplying plant statistics of cure sets (molds used in the production of tubes) to attempt to show that production of tubes at the subject plant declined during the relevant period.

A review of the initial decision shows that plant sales and production increased from January through September 2001 over the corresponding 2000 period. During the initial investigation the company reported declines in plant sales and production in the year 2000 over the 1999 period. However, due to the reported decline in sales and production during the year 2000, although not noted in the TAA decision, the U.S. Department of Labor conducted a survey of the major declining customers of the subject firm regarding their purchases of automobile inner tubes for the 1999, 2000 and the January through November 2001 period over the corresponding 2000 period. The survey is conducted to test if customer imports of like or directly competitive products as produced at the subject firm “contributed importantly” to the worker separations of the workers' firm. None of the customers reported importing inner tubes during the relevant period.

The United Steel Workers of America, Local 884 further alleges that the company is importing tubes from Korea and China to the Russellville, Arkansas plant and then sells the tubes to customers.

Further review of company data supplied during the initial investigation, shows that the company imported a grouping of small tubes, most of which the plant was unable to produce. The reported imports of these tubes were relatively stable during the relevant period. The amount of company tube imports like or directly competitive with what the subject firm produced was also relatively low, therefore imports like or directly competitive with what the subject plant produced did not contribute importantly to the layoffs at the subject firm.

Conclusion

After review of the application and investigative findings, I conclude that there has been no error or misinterpretation of the law or of the facts which would justify reconsideration of the Department of Labor's prior decision. Accordingly, the application is denied.

Signed at Washington, DC, this 20th day of June, 2002.
Edward A. Tomchick,
Director, Division of Trade Adjustment Assistance.

[FR Doc. 02-17142 Filed 7-8-02; 8:45 am]

BILLING CODE 4510-30-P